ENVIRONMENTAL PROTECTION AGENCY

40 CFR Part 52

[EPA-R01-OAR-2012-0848; A-1-FRL-9913-00-Region 1]

Approval and Promulgation of Air Quality Implementation Plans; New Hampshire; Reasonably Available Control Technology for Nitrogen Oxides and Volatile Organic Compounds

AGENCY: Environmental Protection Agency.

ACTION: Direct final rule.

SUMMARY: The Environmental Protection Agency (EPA) is approving State Implementation Plan (SIP) revisions submitted by the State of New Hampshire. These revisions contain an updated regulation establishing reasonably available control technology (RACT) for sources of nitrogen oxides (NOX), four updated source-specific orders for either volatile organic compound (VOC) or NOX RACT, and a request to withdraw from the SIP a previously approved NOX RACT order. The intended effect of this action is to approve the updated NOX RACT regulation and updated VOC and NOX RACT orders into the New Hampshire SIP, and to also approve New Hampshire's request to remove one NOX RACT order from the SIP. This action is being taken in accordance with the Clean Air Act.

DATES: This direct final rule will be effective October 20, 2014, unless EPA receives adverse comments by September 22, 2014. If adverse comments are received, EPA will publish a timely withdrawal of the direct final rule in the Federal Register informing the public that the rule will not take effect.

ADDRESSES: Submit your comments, identified by Docket ID Number EPA-R01-OAR-2012-0848 by one of the following methods:

1. www.regulations.gov: Follow the on-line instructions for submitting comments.

2. E-Mail: arnold.anne@epa.gov.

3. Fax: (617) 918-0047.

4. Mail: “Docket Identification Number EPA-R01-OAR-2012-0848,” Anne Arnold, U.S. Environmental Protection Agency, EPA New England Regional Office, Office of Ecosystem Protection, Air Quality Planning Unit, 5 Post Office Square—Suite 100, (Mail code OEP05-2), Boston, MA 02109-3912.

5. Hand Delivery or Courier. Deliver your comments to: Anne Arnold, Manager, Air Quality Planning Unit, Office of Ecosystem Protection, U.S. Environmental Protection Agency, EPA New England Regional Office, Office of Ecosystem Protection, Air Quality Planning Unit, 5 Post Office Square—Suite 100, (Mail code OEP05-2), Boston, MA 02109-3912. Such deliveries are only accepted during the Regional Office's normal hours of operation. The Regional Office's official hours of business are Monday through Friday, 8:30 a.m. to 4:30 p.m., excluding legal holidays.

Instructions: Direct your comments to Docket ID No. EPA-R01-OAR-2012-0848. EPA's policy is that all comments received will be included in the public docket without change and may be made available online at www.regulations.gov, including any personal information provided, unless the comment includes information claimed to be Confidential Business Information (CBI) or other information whose disclosure is restricted by statute. Do not submit through www.regulations.gov, or email, information that you consider to be CBI or otherwise protected. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at Office of Ecosystem Protection, U.S. Environmental Protection Agency, EPA New England Regional Office, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

In addition, copies of the state submittal are also available for public inspection during normal business hours, by appointment at the State Air Agency; Air Resources Division, Department of Environmental Services, 6 Hazen Drive, P.O. Box 95, Concord, NH 03302-0095.

FOR FURTHER INFORMATION CONTACT: Bob McConnell, Air Quality Planning Unit, Office of Ecosystem Protection, U.S. Environmental Protection Agency, EPA New England Regional Office, 5 Post Office Square—Suite 100, (Mail code OEP05-2), Boston, MA 02109-3912; phone 617-918-1046; fax: 617-918-0046; email: mcconnell.robert@epa.gov.

SUPPLEMENTARY INFORMATION: Throughout this document whenever “we,” “us,” or “our” is used, we mean EPA.

The following outline is provided to aid in locating information in this preamble.

I. Background and Purpose

II. Description of Submittals

1. Part Env-A 1300, NOX RACT

2. NOX RACT for Gorham Paper and Tissue

3. NOX RACT for Plymouth State College

4. VOC RACT for Concord Litho Group

5. VOC RACT for Sturm, Ruger & Company

6. VOC RACT for Textile Tapes Corporation

III. Final Action

IV. Statutory and Executive Order Reviews

I. Background and Purpose

On March 31, 2011, the State of New Hampshire submitted a formal request for a revision to its State Implementation Plan (SIP). The requested SIP revision consists of updates to and a renumbering of its existing regulation establishing reasonably available control technology (RACT) for sources of nitrogen oxides (NOX). Additionally, New Hampshire submitted facility specific VOC or NOX RACT orders for the following four facilities on the dates noted: Concord Litho Group, submitted December 31, 2013; Gorham Paper and Tissue, LLC, submitted October 19, 2012; Sturm, Ruger & Company, Inc., submitted February 4, 2013; and Textile Tapes Corporation, submitted November 16, 2012. Of final note, on December 16, 2013, New Hampshire submitted a request to withdraw a previously approved NOX RACT order for Plymouth State College from the SIP. For background on the Clean Air Act requirement for RACT and how it relates to New Hampshire, see 77 FR 66388, November 5, 2012.

II. Description of Submittals

1. Part Env-A 1300, NOX RACT

EPA has approved previous versions of New Hampshire's NOX RACT rule for both the 1-hour ozone and 1997 8-hour ozone standards into the New Hampshire SIP. Our initial approval of New Hampshire's NOX RACT rule occurred on April 9, 1997 (see 62 FR 17092), and we approved an update to that rule in the Federal Register on November 5, 2012 (see 77 FR 66388). Today's action approves the minor updates described below, and also incorporates a renumbering of this regulation from Part Env-A 1211, as it was formerly identified in our two previous actions, to Chapter Env-A 1300. New Hampshire did not submit Env-A 1300, NOX RACT, on March 31, 2011 to meet its RACT obligation under the national ambient air quality standard (NAAQS) for ozone revised by EPA in 2008.

In relation to the renumbering, we also note that on November 8, 2012 (see 77 FR 66921), we approved into the New Hampshire SIP the State's VOC RACT rule, a portion of which, at the time of our approval, was codified at Part Env-A 1211 (the same codification associated with our November 5, 2012 and earlier NOX RACT approvals). Our approval of New Hampshire's VOC RACT regulation on November 8, 2012, therefore had the inadvertent effect of “overwriting” New Hampshire's NOX RACT SIP regulations in the official compilation of the SIP maintained by EPA and the Office of the Federal Register. In accordance with our error correction authority under CAA section 110(k)(6), we are correcting the error caused by our inadvertent “overwriting” of New Hampshire's NOX RACT regulations by revising the official compilation of the New Hampshire SIP to include Part Env-A 1300, NOX RACT. Apart from the recodification and error correction described above, the substantive changes being made to New Hampshire's NOX RACT rule are described below.

a. Revision Applicable to Emission Units Using Electronic Timing

New Hampshire's original regulation had required all internal combustion engines to undergo a manual timing adjustment, but experience gained through implementation of that requirement indicated that manual adjustments to units equipped with electronic timing were not feasible. Additionally, most new engines were equipped with electronic timing. Therefore, New Hampshire has removed the requirement for manual timing adjustments for units equipped with electronic timing, but retained the requirement for units that are not equipped with electronic timing.

b. Consolidation of Requirements for Testing, Recordkeeping, and Recording

New Hampshire's air pollution control regulations include Part Env-A 800, Testing and Monitoring Procedures, and Part Env-A 900, Owner or Operator Recordkeeping and Reporting Obligations. These rules have been approved into the New Hampshire SIP. See 77 FR 66388, November 5, 2012. New Hampshire's updated NOX RACT regulation clarifies and updates the cross-referencing to these two rules.

c. Clarification of Use of Discrete Emission Reductions for Compliance

Part Env-A 1315.03(a) was added to clarify that sources subject to the state's NOX RACT rule could comply by the purchase or generation of discrete emission reduction credits pursuant to Env-A 3100, Discrete Emission Reduction Trading Program. However, as noted within our approval of New Hampshire's RACT certification for the 1997 8-Hour ozone standard (77 FR 66388; November 5, 2012), Env-A 3100 has not been approved into the New Hampshire SIP. Therefore, any order issued by the New Hampshire DES that provides for compliance with NOX RACT by use of Env-A 3100 will need to be approved into the New Hampshire SIP.

d. Clarification of Procedures for Issuance of a RACT Order

Part Env-A 1316, NOX RACT Orders, was amended to clarify for the regulated community the steps that must be taken to request a NOX RACT order containing a NOX RACT limit that differs from those found within Env-A 1300. This section was also expanded to describe the actions that the New Hampshire DES will take upon receipt of such a request, including submitting the order to EPA as a SIP revision, and the maximum amount of time the state agency will take to complete these actions.

e. Change to Wording of Applicability Section

Part Env-A 1301.02, Applicability, was amended by inserting language in certain subsections to clarify for the regulated community the universe of sources subject to NOX RACT. The language in question, “and the permitting applicability levels specified in Env-A 607.01 are met,” was added to Env-A 1301.02(b), for example. Env-A 1301.02(b) is the provision of New Hampshire's NOX RACT regulations defining the universe of utility boilers subject to NOX RACT. Env-A 607.01, referenced in Env-A 1301.02(b), is the section of New Hampshire's statewide permit regulations containing preconstruction (or temporary) permit requirements for new and modified sources.¹ In the “Response to Comments” document included in the March 31, 2011 SIP submittal, New Hampshire DES explained that the new language is intended only to indicate that the permitting applicability levels (i.e., source “sizes”) contained in Env-607.01 must also be met before NOX RACT applies. Furthermore, New Hampshire clarified that the new language is not intended to suggest that only new or modified emissions units are subject to NOX RACT, i.e. that the added language is consistent with a requirement that existing sources are also subject to NOX RACT under New Hampshire's regulation. EPA is therefore approving the added language because it is consistent with CAA requirements for NOX RACT applicability.

¹ Note that Env-A 607.01 is the section of New Hampshire's state regulations containing the permitting requirements in question, and that Env-A 607.01 is one subsection of Env-A 600, New Hampshire's Statewide Permit System regulations. The permit requirements now codified in Env-A 607.01 under state law were approved earlier by EPA into the New Hampshire SIP in a different section of Part Env-A 600 (Statewide Permit System).

f. Cross Reference to Env-A 2000

On June 30, 2014, New Hampshire submitted a letter requesting that a phrase within Env-A 1311.03(a)(5) not be incorporated into the SIP because it cross-references a New Hampshire state regulation, Env-A 2000, that is not a part of the SIP. Therefore, as requested, we are not approving the phrase “or any opacity standard specified in Env-A 2000” in subparagraph Env-A 1311.03(a)(5).

2. NOX RACT for Gorham Paper and Tissue

On October 19, 2012, New Hampshire submitted NOX RACT Order No. ARD-97-003 for the Gorham Paper and Tissue facility located in Gorham, New Hampshire, as a revision to the SIP. The premises was formerly owned and operated by the Crown Vantage Company, and New Hampshire DES originally issued RACT Order No. ARD-97-003 on September 24, 1997. New Hampshire DES submitted that original order to EPA as a SIP revision request, and we approved it into the New Hampshire SIP on May 13, 1998. See 63 FR 26455. On May 13, 2011, Gorham Paper and Tissue acquired ownership of the facility, and on January 20, 2012, submitted a NOX RACT Analysis and RACT Order Application for a new tissue dryer machine. On October 19, 2012, New Hampshire DES issued an update of Order No. ARD-97-003 to the facility, and submitted the order to EPA as a SIP revision request on that same day.

The updated order establishes NOX RACT for the tissue drying machine, requiring the installation and operation of ultra low NOX burners, and an emission limitation of 0.035 lbs/mmBTU on a 24-hour calendar day average. The order also requires that initial and periodic stack tests be conducted. Additionally, the updated order adds a NOX RACT emission limit of 0.25 lbs/mmBTU based on a 24-hour calendar day average for Boilers 1 and 2 at the facility when these boilers combust natural gas, and also provides testing requirements for these units. Lastly, a number of RACT requirements applicable to equipment that has been removed from the facility were deleted from the RACT order. EPA is approving this revised order because it is consistent with CAA requirements for NOX RACT and with New Hampshire's NOX RACT regulation.

3. NOX RACT for Plymouth State College

On December 16, 2013, New Hampshire DES submitted a request to withdraw from the SIP a NOX RACT order previously issued to Plymouth State College. Prior to 2013, Plymouth State routinely operated two electrical generators to provide power to the facility. During 2013, a decision was made to purchase all of the College's electricity from the grid, and to keep the two electrical generators as emergency backup generators. While functioning as a primary source of electricity for Plymouth State, operation of the generators was regulated by the requirements of NOX RACT order ARD-95-002, issued to Plymouth Cogeneration Limited Partnership, which was approved into the New Hampshire SIP on April 9, 1997. See 62 FR 17087. As emergency generators, the operation of these units are now governed by New Hampshire regulation Env-A 1311, Emergency Generators, thus obviating the need for NOX RACT order ARD-95-002. Accordingly, New Hampshire DES issued rescission of Final RACT Order No. ARD-95-002, dated December 16, 2013. EPA is therefore approving New Hampshire's request to withdraw the facility's NOX RACT order from the SIP.

4. VOC RACT for Concord Litho Group

On December 31, 2013, New Hampshire DES submitted an updated VOC RACT order for the Concord Litho Group located in Concord, New Hampshire. The primary cause for updating the order was to remove specific set point temperatures for the two regenerative thermal oxidizers used by the facility to reduce VOC emissions. In place of these defined set points, New Hampshire has updated the order with a requirement that the temperature set points be determined by the most recently approved stack test that successfully demonstrated at least a 90% destruction efficiency. This update was made in light of the facility's periodic stack testing requirement, and the unique temperature set points that these tests produce. EPA is approving this revised order because it is consistent with CAA requirements for VOC RACT and with New Hampshire's Chapter Env-A 1200, VOC RACT regulation.

5. VOC RACT for Sturm, Ruger & Company

On February 4, 2013, New Hampshire DES submitted an updated VOC RACT order for the Sturm, Ruger & Company facility located in Newport, New Hampshire. Previously, EPA approved VOC RACT Order No. ARD-03-001 into the New Hampshire SIP within a final rule published in the Federal Register on November 15, 2012. See 77 FR 66388. The updated order contains VOC limits for two new processes at the facility, a stainless steel bluing line, and a camouflage image transfer and coating line.

The bluing line uses a rustproofing fluid with a low vapor pressure referred to as “Pen Dip Super.” This fluid has a low vapor pressure which is less than 1.0 millimeter (mm) of mercury, and New Hampshire DES indicates within the updated Order that use of this low vapor pressure fluid represents RACT for this process. Regarding this vapor pressure limit, as a point of reference the Ozone Transport Commission's model rule for solvent cleaning uses this threshold to distinguish between acceptable (less than 1.0 mm mercury), and unacceptable (1.0 mm mercury or higher) vapor pressures for cold cleaning solvents.

The camouflage image transfer and coating process uses a solvent based activator-release agent to prepare the camouflage image for transfer to a gun. Use of the activator-release agent produces approximately 0.05 lbs VOC per gun produced. This amount was significantly lower than other coatings available for this process, which ranged from 0.09 to 0.20 lbs VOC per gun produced, and therefore New Hampshire DES determined that use of the activator-release agent represented RACT for this process. EPA is approving this revised order because it is consistent with CAA requirements for VOC RACT and with New Hampshire's VOC RACT regulation.

6. VOC RACT for Textile Tapes Corporation

On November 16, 2012, New Hampshire DES submitted an amendment to a previously issued VOC RACT order for the Textile Tapes Corporation in Gonic, New Hampshire, as a SIP revision request. EPA had previously approved VOC RACT order ARD-96-001 for this facility into the New Hampshire SIP in a final rule published in the Federal Register on November 5, 2012. See 77 FR 66388. The updated order contains VOC destruction efficiency requirements, minimum operating temperature requirements, and testing requirements for a new recuperative thermal oxidizer that replaced an existing unit previously used at the facility. EPA is approving this revised order because it is consistent with CAA requirements for VOC RACT and with New Hampshire's VOC RACT regulation.

Summary

We have reviewed New Hampshire's revised NOX RACT regulation, the four single-source RACT orders the State requested be approved into the SIP, and the NOX RACT order the State requested be withdrawn from the SIP. We agree with the State's rationale for determining that these actions are consistent with CAA requirements and with New Hampshire's RACT regulations, and we are therefore approving each of New Hampshire's requested SIP revisions.

In summary, today's action approves minor clarifications and/or updates to New Hampshire's previously approved NOX RACT regulations and to certain VOC and NOX RACT orders. New Hampshire will need to address VOC and NOX RACT requirements arising from the 2008 ozone NAAQS in a future SIP submittal to EPA. As explained earlier in this notice, today's action approving Env-A 1300, NOX RACT, into the New Hampshire SIP also corrects an inadvertent error, which we are correcting pursuant to CAA section 110(k)(6). As a final note, New Hampshire's re-numbered NOX RACT rule is no less stringent than its previously adopted rule, thus satisfying the anti-backsliding requirements of section 110(l) of the CAA.

III. Final Action

EPA is approving and incorporating into the New Hampshire SIP Env-A 1300, NOX RACT, as well as source-specific VOC and NOX RACT orders for the following four facilities: Concord Litho Group; Gorham Paper and Tissue, LLC; Sturm, Ruger & Company, Inc.; and Textile Tapes Corporation. We are also approving New Hampshire's request to withdraw from the New Hampshire SIP a previously approved NOX RACT order for Plymouth Cogeneration Limited Partnership.

The EPA is publishing this action without prior proposal because the Agency views this as a noncontroversial amendment and anticipates no adverse comments. However, in the proposed rules section of this Federal Register publication, EPA is publishing a separate document that will serve as the proposal to approve the SIP revision should relevant adverse comments be filed. This rule will be effective October 20, 2014 without further notice unless the Agency receives relevant adverse comments by September 22, 2014.

If the EPA receives such comments, then EPA will publish a notice withdrawing the final rule and informing the public that the rule will not take effect. All public comments received will then be addressed in a subsequent final rule based on the proposed rule. The EPA will not institute a second comment period on the proposed rule. All parties interested in commenting on the proposed rule should do so at this time. If no such comments are received, the public is advised that this rule will be effective on October 20, 2014 and no further action will be taken on the proposed rule. Please note that if EPA receives adverse comment on an amendment, paragraph, or section of this rule and if that provision may be severed from the remainder of the rule, EPA may adopt as final those provisions of the rule that are not the subject of an adverse comment.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 20, 2014. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Nitrogen dioxide, Ozone, Reporting and recordkeeping requirements, Volatile organic compounds.

Dated: July 29, 2014.
H. Curtis Spalding,
Regional Administrator, EPA New England.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart EE—New Hampshire

2. Section 52.1520 is amended by:

a. In Table (c) adding a new state citation for Env-A 1300, NOX RACT in numerical order; and

b. In Table (d), by:

i. Removing the row with existing state citation “Source specific NOX RACT order for Plymouth Cogeneration Ltd Partnership, Plymouth, NH,” and

ii. Adding new state citations for Gorham Paper and Tissue, Concord Litho Group, Sturm, Ruger & Company, and Textile Tapes Corporation at the end of the table;

The amendments read as follows:

§ 52.1520 Identification of plan.

* * * * *

(c) EPA approved regulations.

EPA-Approved New Hampshire Regulations
State citation | Title/ subject | State effective date | EPA approval date ¹ | Explanations
* * * * * * *
Env-A 1300 | NOX RACT | 10/31/2010 | 08/21/2014 [Insert Federal Register citation] | All of Section Env-A 1300 is approved, with the exception of the phrase “or any opacity standard specified in Env-A 2000” in subparagraph Env-A 1311.03(a)(5) which NH withdrew from its SIP submittal. State re-numbered NOX RACT from Env-A 1211 to Env-A 1300, and made several minor revisions to NOX RACT requirements.
* * * * * * *
¹ In order to determine the EPA effective date for a specific provision listed in this table, consult the Federal Register notice cited in this column for the particular provision.

(d) EPA-approved State Source specific requirements.

EPA-Approved New Hampshire Source Specific Requirements
Name of source | Permit No. | State effective date | EPA approval date ² | Explanations
* * * * * * *
Gorham Paper and Tissue | Order No. ARD-97-003 | 10/19/2012 | 08/21/2014 [Insert Federal Register citation] | NOX RACT order.
Concord Litho Group | Order No. ARD-07-003A | 12/31/2013 | 08/21/2014 [Insert Federal Register citation] | VOC RACT order.
Sturm, Ruger & Company | Order No. ARD-03-001 | 3/21/2012 | 08/21/2014 [Insert Federal Register citation] | VOC RACT order.
Textile Tapes Corporation | Order No. ARD-96-001 | 11/16/2012 | 08/21/2014 [Insert Federal Register citation] | VOC RACT order.
² In order to determine the EPA effective date for a specific provision listed in this table, consult the Federal Register notice cited in this column for the particular provision.

* * * * *

[FR Doc. 2014-19516 Filed 8-20-14; 8:45 am]

BILLING CODE 6560-50-P